ENVIRONMENTAL PROTECTION AGENCY

[EPA-HQ-OAR-2022-0037; FRL-13053-01-OMS]

Information Collection Request Submitted to OMB for Review and Approval; Comment Request; NSPS for Stationary Combustion Turbines (Renewal)

AGENCY: Environmental Protection Agency (EPA).

ACTION: Notice.

SUMMARY: The Environmental Protection Agency has submitted an information collection request (ICR), NSPS for Stationary Combustion Turbines (EPA ICR Number 2177.10, OMB Control Number 2060-0582) to the Office of Management and Budget (OMB) for review and approval in accordance with the Paperwork Reduction Act. This is a proposed extension of the ICR, which is currently approved through October 31, 2025. Public comments were previously requested via the Federal Register on June 17, 2025 during a 60-day comment period. This notice allows for an additional 30 days for public comments.

DATES: Comments may be submitted on or before November 28, 2025.

ADDRESSES: Submit your comments, referencing Docket ID Number EPA-HQ-OAR-2022-0037, to EPA online using www.regulations.gov (our preferred method), by email to docket_oms@epa.gov, or by mail to: EPA Docket Center, Environmental Protection Agency, Mail Code 28221T, 1200 Pennsylvania Ave. NW, Washington, DC 20460.

EPA's policy is that all comments received will be included in the public docket without change including any personal information provided, unless the comment includes profanity, threats, information claimed to be Confidential Business Information (CBI) or other information whose disclosure is restricted by statute.

Submit written comments and recommendations to OMB for the proposed information collection within 30 days of publication of this notice to www.reginfo.gov/public/do/PRAMain. Find this particular information collection by selecting “Currently under 30-day Review—Open for Public Comments” or by using the search function.

FOR FURTHER INFORMATION CONTACT: Muntasir Ali, Sector Policies and Program Division (D243-05), Office of Air Quality Planning and Standards, U.S. Environmental Protection Agency, Research Triangle Park, North Carolina 27711; telephone number: (919) 541-0833; email address: ali.muntasir@epa.gov.

SUPPLEMENTARY INFORMATION: Supporting documents, which explain in detail the information that the EPA will be collecting, are available in the public docket for this ICR. The docket can be viewed online at https://www.regulations.gov or in person at the EPA Docket Center, WJC West Building, Room 3334, 1301 Constitution Ave. NW, Washington, DC. The telephone number for the Docket Center is 202-566-1744. For additional information about EPA's public docket, visit http://www.epa.gov/dockets.

Abstract: The New Source Performance Standards (NSPS) for Stationary Combustion Turbines (40 CFR part 60, subpart KKKK) were proposed on February 18, 2005, and promulgated on July 6, 2006. These regulations apply to new stationary combustion turbines with a heat input at peak load equal to or greater than 10.7 gigajoules (10 MMBtu) per hour, based on the higher heating value of the fuel. New facilities include those that commenced construction, modification or reconstruction after the date of proposal. This information is being collected to assure compliance with 40 CFR part 60, subpart KKKK.

In general, all NSPS standards require initial notifications, performance tests, and periodic reports by the owners/operators of the affected facilities. They are also required to maintain records of the occurrence and duration of any startup, shutdown, or malfunction in the operation of an affected facility, or any period during which the monitoring system is inoperative. These notifications, reports, and records are essential in determining compliance, and are required of all affected facilities subject to NSPS.

Form Numbers: None.

Respondents/affected entities: Stationary combustion turbines.

Respondent's obligation to respond: Mandatory (40 CFR part 60, subpart KKKK).

Estimated number of respondents: 1,030 (total).

Frequency of response: Initially, semiannually, annually.

Total estimated burden: 106,000 hours (per year). Burden is defined at 5 CFR 1320.3(b).

Total estimated cost: $14,500,000 (per year). There are no capital or operation & maintenance costs.

Changes in the Estimates: The increase in burden from the most recently approved ICR is due to an increase in the number of new or modified sources. This ICR updates the number of affected sources subject to the regulation based on an assumption that the industry continues to grow at a similar rate as the previous renewal and based on current estimates and Agency consultations. There are no capital or operation and maintenance costs associated with this regulation.

Courtney Kerwin,
Director, Information Engagement Division.

[FR Doc. 2025-19682 Filed 10-27-25; 8:45 am]

BILLING CODE 6560-50-P